INTERNATIONAL TRADE COMMISSION

[Investigation No. 337-TA-1231]

Certain Digital Imaging Devices and Products Containing the Same and Components Thereof Institution of Investigation

AGENCY: U.S. International Trade Commission.

ACTION: Notice.

SUMMARY: Notice is hereby given that a complaint was filed with the U.S. International Trade Commission on September 25, 2020, under section 337 of the Tariff Act of 1930, as amended, on behalf of Pictos Technologies, Inc. of San Jose, California. An amended complaint was filed on October 23, 2020, and supplemented on November 13, 2020 and November 16, 2020. The complaint, as amended, alleges violations of section 337 based upon the importation into the United States, the sale for importation, and the sale within the United States after importation of certain digital imaging devices and products containing the same and components thereof by reason of infringement of certain claims of U.S. Patent No. 6,838,651 (“the '651 patent”); U.S. Patent No. 7,800,145 (“the '145 patent”); U.S. Patent No. 7,064,768 (“the '768 patent”); and U.S. Patent No. 7,323,671 (“the '671 patent”); and that an industry in the United States exists as required by the applicable Federal Statute. The amended complaint further alleges violations of section 337 based upon the importation into the United States, or in the sale of certain digital imaging devices and products containing the same and components thereof by reason of misappropriation of trade secrets, the threat or effect of which is to destroy or substantially injure an industry in the United States. The complainant requests that the Commission institute an investigation and, after the investigation, issue a limited exclusion order and cease and desist orders.

ADDRESSES: The amended complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2020).

Scope of Investigation: Having considered the amended complaint, the U.S. International Trade Commission, on November 24, 2020, ordered that—

(1) Pursuant to subsection (b) of section 337 of the Tariff Act of 1930, as amended, an investigation be instituted to determine:

(a) Whether there is a violation of subsection (a)(1)(B) of section 337 in the importation into the United States, the sale for importation, or the sale within the United States after importation of certain products identified in paragraph (2) by reason of infringement of one or more of claim 1-12 and 18 of the '651 patent; claims 1 and 12 of the '145 patent; claims 1, 2, 8, and 13 of the '768 patent; and claims 1-26 of the '671 patent, and whether an industry in the United States exists as required by subsection (a)(2) of section 337;

(b) whether there is a violation of subsection (a)(1)(A) of section 337 in the importation, or in the sale of certain products identified in paragraph (2) by reason of misappropriation of trade secrets, the threat or effect of which is to destroy or substantially injure an industry in the United States;

(2) Pursuant to section 210.10(b)(1) of the Commission's Rules of Practice and Procedure, 19 CFR 210.10(b)(1), the plain language description of the accused products or category of accused products, which defines the scope of the investigation, is “digital imaging sensors and mobile phone handsets, tablet computers, laptop computers, web cameras, home monitoring cameras, and digital cameras that contain those sensors”;

(3) For the purpose of the investigation so instituted, the following are hereby named as parties upon which this notice of investigation shall be served:

(a) The complainant is: Pictos Technologies, Inc, 109 Bonaventura Drive, San Jose CA 95134.

(b) The respondents are the following entities alleged to be in violation of section 337, and are the parties upon which the amended complaint is to be served:

Samsung Electronics Co., Ltd., 129 Samseong-Ro, Yeongtong-Gu, Suwon, Gyeonggi 16677, Republic of Korea

Samsung Electronics America, Inc., 85 Challenger Rd., Ridgefield Park, NJ 07660-2118

Samsung Semiconductor, Inc., 3655 North First Street, San Jose, CA 95134-1713

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: November 25, 2020.
Katherine Hiner,
Supervisory Attorney.

[FR Doc. 2020-26467 Filed 11-30-20; 8:45 am]

BILLING CODE 7020-02-P